NATIONAL SCIENCE FOUNDATION

Innovation Corps Advisory Committee; Notice of Meeting

In accordance with the Federal Advisory Committee Act (Pub. L. 92-463, as amended), the National Science Foundation announces the following meeting:

Name: Innovation Corps (I-Corps) for Advisory Committee, #80463.

Date/Time: October 28, 2013, 3:00 p.m.-5:00 p.m. EDT.

Place: National Science Foundation, 4201 Wilson Boulevard, Room 530, Arlington, VA 22230.

I-Corps Advisory Committee Members will be attending virtually. If you are interested in attending, in-person attendance is required. To help facilitate your entry into the building, please contact Johnetta Lee (jlee@nsf.gov) on or prior to October 24, 2013.

Type of Meeting: Open.

Contact Person: Rathindra DasGupta, Program Director, Innovation Corps (I-Corps), Engineering Directorate, National Science Foundation, 4201 Wilson Boulevard, Arlington, VA 22230; Telephone number: (703) 292-8353; email: rdasgupt@nsf.gov.

Purpose of Meeting: To provide updates on I-Corps Teams, Sites and Nodes; and to dissolve the advisory committee.

Agenda:

• Opening Statements by Dr. Pramod Khargonekar (Assistant Director of Engineering Directorate) and Dr. Farnam Jahanian (Assistant Director of Computer and Information Science and Engineering Directorate).

• Updates on I-Corps Teams and Sites.

• Updates on I-Corps Nodes (a designated individual from each Node will present).

• Discussion of the current I-Corps programs and future directions, and dissolution of the committee.

Dated: September 27, 2013.
Susanne Bolton,
Committee Management Officer.

[FR Doc. 2013-24026 Filed 10-1-13; 8:45 am]

BILLING CODE 7555-01-P